DEPARTMENT OF COMMERCE

International Trade Administration

[A-201-805]

Certain Circular Welded Non-Alloy Steel Pipe from Mexico: Notice of Amended Final Results of Antidumping Duty Administrative Review Pursuant to Settlement

AGENCY: Import Administration, International Trade Administration, Department of Commerce

DATES: Effective Date: March 22, 2013.

FOR FURTHER INFORMATION CONTACT: Mark Flessner or Robert James, AD/CVD Operations, Office 7, Import Administration, International Trade Administration, U.S. Department of Commerce, 14th Street and Constitution Avenue NW., Washington, DC 20230; telephone: (202) 482-6312 and (202) 482-0649, respectively.

SUPPLEMENTARY INFORMATION:

Background

On April 9, 2010, the Department of Commerce (the Department) published the final results of its administrative review of the antidumping duty order on certain circular welded non-alloy steel pipe from Mexico. The period of review (POR) is November 1, 2007, through October 31, 2008.¹

¹ See Certain Circular Welded Non-Alloy Steel Pipe from Mexico: Final Results of Antidumping Duty Administrative Review and Rescission of Administrative Review in Part, 75 FR 20342 (April 19, 2010) (Final Results).

In the Final Results, the Department assigned to Mueller Comercial de Mexico, S. de R.L. de C.V. (Mueller), an exporter of certain circular welded non-alloy steel pipe from Mexico to the United States, an adverse facts available (AFA) rate of 48.33 percent. The application of AFA was necessitated by Mueller's failure to cooperate with the Department and impeding this administrative review by ignoring multiple requests for information.

Following the publication of the final results, Mueller filed a lawsuit with the United States Court of International Trade (CIT) challenging the Department's final results of administrative review.² The Court remanded this matter to the Department ordering that the Department “shall reconsider its determination not to apply the `all others' rate to Mueller's entries.” See the Opinion at 23. The Department complied with the Court order and reconsidered its determination not to apply the “all others” rate to a non-cooperating respondent. In the Final Results of Redetermination Pursuant to Court Remand, for the reasons set forth in the review, the Department found the “all others” rate was not sufficient to deter non-compliance by Mueller.³

² See Mueller Comercial de Mexico, S. de R.L. de C.V., and Southland Pipe Nipples Co., Inc. v. United States, Court No. 10-00163, Slip Op. 11-159 (December 16, 2011) (the Opinion).

³ See Final Results of Redetermination Pursuant to Court Remand: Certain Circular Welded Non-Alloy Steel Pipe from Mexico, Mueller Comercial de Mexico, S. de R.L. de C.V., and Southland Pipe Nipples Co., Inc. v. United States, Court No. 10-00163, Slip Op. 11-159 (CIT December 16, 2011), dated May 14, 2012.

The United States and Mueller have now entered into an agreement to settle this dispute. The Court issued its Order of Judgment by Stipulation on February 27, 2013. Pursuant to the Court's Order of Judgment by Stipulation, the Department will order liquidation of the unliquidated entries of certain circular welded non-alloy steel pipe from Mexico, produced and/or exported by Mueller Comercial de Mexico, S. de R.L. de C.V., and entered or withdrawn from warehouse, for consumption in the United States, from November 1, 2007 through October 31, 2008, at the rate of 40.475 percent agreed to by the parties.

We are issuing this determination and publishing these final results of antidumping duty administrative review pursuant to settlement and notice in accordance with 19 U.S.C. 1516a(e).

Dated: March 14, 2013.
Paul Piquado,
Assistant Secretary for Import Administration.

[FR Doc. 2013-06678 Filed 3-21-13; 8:45 am]

BILLING CODE 3510-DS-P